DEPARTMENT OF JUSTICE

Office of Justice Programs

[OMB Number 1121-NEW]

Office of Juvenile Justice and Delinquency Prevention; Agency Information Collection Activities: Extension of a Currently Approved Collection: Comment Request

ACTION: 30-Day Notice of Information Collection Under Review: Helping America's Youth Community Resource Inventory.

The U.S. Department of Justice (DOJ) has submitted on behalf of the Executive Office of the President the following information collection request to the Office of Management and Budget (OMB) for review and approval in accordance with the Paperwork Reduction Act of 1995. The proposed information collection request is published to obtain comments from the public and affected agencies. This proposed information collection was previously published in the Federal Register, Volume 71, Number 145, pages 42879-42880, on July 28, 2006, allowing for a 60-day comment period.

The purpose of this notice is to allow for an additional 30 days for public comment until October 27, 2006. This process is conducted in accordance with 5 CFR 1320.10.

Written comments and/or suggestions regarding the items contained in this notice, especially the estimated public burden and associated response time, should be directed to the Office of Management and Budget, Office of Information and Regulatory Affairs, Attention: U.S. Department of Justice Desk Officer, Washington, DC 20503. Additionally, comments may be submitted to OMB via facsimile to (202) 395-5806. Written comments and suggestions from the public and affected agencies concerning the proposed collection of information are encouraged. Your comments should address one or more of the following four points:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology (e.g., permitting electronic submission of responses).

Overview of This Information Collection

1. Type of Information Collection: Extension of a currently approved collection.

2. Title of the Form/Collection: Helping America's Youth Community Resource Inventory.

3. Agency form number, if any, and the applicable component of the Department sponsoring the collection: U.S. Department of Justice on behalf of the Executive Office of the President.

4. Affected public who will be asked or required to respond, as well as a brief abstract:

Primary: Individuals and organizations involved in building partnerships to help youth.

Other: None.

Abstract: This is an online database provided as a service to communities that wish to identify local youth-serving programs and resources. Participation is voluntary.

5. An estimate of the total number of respondents and the amount of time estimated for an average respondent to respond or reply: It is estimated that it will take 500 respondents approximately 80 hours each to enter the data.

6. An estimate of the total public burden (in hours) associated with the collection: There are an estimated 40,000 total annual burden hours associated with this collection.

If additional information is required, contact Ms. Lynn Bryant, Department Clearance Officer, U.S. Department of Justice, Justice Management Division, Policy and Planning Staff, Patrick Henry Building, Suite 1600, 601 D Street, NW., Washington, DC 20530.

Dated: September 20, 2006.
Lynn Bryant,
Department Clearance Officer, U.S. Department of Justice.

[FR Doc. 06-8211 Filed 9-26-06; 8:45 am]

BILLING CODE 4410-18-P